DEPARTMENT OF THE INTERIOR

Fish and Wildlife Service

[FWS-R9-FHC-2012-N237; WBS: FXFR13360900000N5, Cost Center: FF09F14000, Fund: 134]

Aquatic Nuisance Species Task Force Meeting

AGENCY: Fish and Wildlife Service, Interior.

ACTION: Notice of meeting.

SUMMARY: This notice announces a meeting of the Aquatic Nuisance Species (ANS) Task Force. The ANS Task Force's purpose is to develop and implement a program for U.S. waters to prevent introduction and dispersal of aquatic nuisance species; to monitor, control, and study such species; and to disseminate related information. The meeting is open to the public.

DATES: The ANS Task Force will meet from 8:30 a.m. to 5:00 p.m. Wednesday November 14, and from 8:30 a.m. to 5:00 p.m. on Thursday November 15, 2012.

ADDRESSES: The ANS Task Force meeting will take place at the U.S. Fish and Wildlife Service building at 4401 North Fairfax Drive, Arlington, VA 22203. You may inspect minutes of the meeting at the office of the Chief, Division of Fisheries and Aquatic Resource Conservation, U.S. Fish and Wildlife Service, 4401 North Fairfax Drive, Arlington, VA 22203, during regular business hours, Monday through Friday. You may also view the minutes on the ANS Task Force Web site at: http://anstaskforce.gov/meetings.php.

FOR FURTHER INFORMATION CONTACT: Susan Mangin, Executive Secretary, ANS Task Force, at (703) 358-2466, or by email at Susan_Mangin@fws.gov.

SUPPLEMENTARY INFORMATION:

Background

Pursuant to section 10(a)(2) of the Federal Advisory Committee Act (5 U.S.C. App.), this notice announces meetings of the ANS Task Force. The ANS Task Force was established by the Nonindigenous Aquatic Nuisance Prevention and Control Act of 1990 (Pub. L. 106-580, as amended).

Agenda

Topics that the ANS Task Force plans to cover during the meeting include:

• ANSTF recreational guidelines,

• Species management and control plans,

• ANSTF Strategic Plan accomplishments tracking,

• Japanese tsunami marine debris, and

• Rapid screening for aquatic invasive species.

The agenda and other related meeting information are on the ANS Task Force Web site at: http://anstaskforce.gov/meetings.php.

Accessibility Information

The meeting location is accessible to wheelchair users. If you require additional accommodations, please notify us at least 1 week in advance of the meeting.

Authority

We publish this notice under section 10(a)(2) of the Federal Advisory Committee Act (5 U.S.C. App.).

Dated: October 1, 2012.
John Schmerfeld,
Acting Co-Chair, Aquatic Nuisance Species Task Force, Assistant Director—Fisheries and Habitat Conservation.

[FR Doc. 2012-24644 Filed 10-4-12; 8:45 am]

BILLING CODE 4310-55-P